COMMISSION ON CIVIL RIGHTS

Agenda and Notice of Public Meeting of the Florida Advisory Committee

Notice is hereby given, pursuant to the provisions of the rules and regulations of the U.S. Commission on Civil Rights, that a planning meeting with briefing of the Florida Advisory Committee to the Commission will convene at 1 p.m. and adjourn at 5 p.m. on Thursday, May 30, 2002, at the Adam's Mark Hotels & Resorts, 225 Coast Line Drive East, Jacksonville, Florida 32202. The purpose of the planning meeting with briefing is to: (1) Plan future activities, and (2) be briefed on immigration and Title VI allegations of discrimination in Jacksonville.

Persons desiring additional information, or planning a presentation to the Committee, should contact Bobby D. Doctor, Director of the Southern Regional Office, 404-562-7000 (TDD 404-562-7004). Hearing-impaired persons who will attend the meeting and require the services of a sign language interpreter should contact the Regional Office at least ten (10) working days before the scheduled date of the meeting.

The meeting will be conducted pursuant to the provisions of the rules and regulations of the Commission.

Dated at Washington, DC, May 6, 2002.
Ivy L. Davis,
Chief, Regional Programs Coordination Unit.

[FR Doc. 02-11868 Filed 5-10-02; 8:45 am]

BILLING CODE 6335-01-P